DEPARTMENT OF DEFENSE

GENERAL SERVICES ADMINISTRATION

NATIONAL AERONAUTICS AND SPACE ADMINISTRATION

[OMB Control No. 9000-0001; Docket No. 2011-0079; Sequence 8]

Submission for OMB Review; Federal Acquisition Regulation; Standard Form 28, Affidavit of Individual Surety

AGENCIES: Department of Defense (DOD), General Services Administration (GSA), and National Aeronautics and Space Administration (NASA).

ACTION: Notice of request for a extension to an existing OMB clearance.

SUMMARY: Under the provisions of the Paperwork Reduction Act of 1995 (44 U.S.C. Chapter 35), the Regulatory Secretariat (MVCB) will be submitting to the Office of Management and Budget (OMB) a request to review and approve an extension of a currently approved information collection requirement concerning Standard Form 28, Affidavit of Individual Surety. A request for public comments was published in the Federal Register at 76 FR 22706, on April 22, 2011. Two comments were received.

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before October 28, 2011.

ADDRESSES: Submit comments identified by Information Collection 9000-0001, Standard Form 28, Affidavit of Individual Surety, by any of the following methods:

• Regulations.gov: http://www.regulations.gov. Submit comments via the Federal eRulemaking portal by inputting “Information Collection 9000-0001, Standard Form 28, Affidavit of Individual Surety” under the heading “Enter Keyword or ID” and selecting “Search”. Select the link “Submit a Comment” that corresponds with “Information Collection 9000-0001, Standard Form 28, Affidavit of Individual Surety”. Follow the instructions provided at the “Submit a Comment” screen. Please include your name, company name (if any), and “Information Collection 9000-0001, Standard Form 28, Affidavit of Individual Surety” on your attached document.

• Fax: 202-501-4067.

• Mail: General Services Administration, Regulatory Secretariat (MVCB), 1275 First Street, NE., Washington, DC 20417. ATTN: Hada Flowers/IC 9000-0001, Standard Form 28, Affidavit of Individual Surety.

Instructions: Please submit comments only and cite Information Collection 9000-0001, Standard Form 28, Affidavit of Individual Surety, in all correspondence related to this collection. All comments received will be posted without change to http://www.regulations.gov, including any personal and/or business confidential information provided.

FOR FURTHER INFORMATION CONTACT: Cecelia Davis, Procurement Analyst, Federal Acquisition Policy Division, GSA (202) 219-0202 or Cecelia.davis@gsa.gov.

SUPPLEMENTARY INFORMATION:

A. Purpose

The Affidavit of Individual Surety (Standard Form (SF) 28) is used by all executive agencies, including the Department of Defense, to obtain information from individuals wishing to serve as sureties to Government bonds. To qualify as a surety on a Government bond, the individual must show a net worth not less than the penal amount of the bond on the SF 28. It is an elective decision on the part of the maker to use individual sureties instead of other available sources of surety or sureties for Government bonds.

The information on SF 28 is used to assist the contracting officer in determining the acceptability of individuals proposed as sureties.

A notice published in the Federal Register at 76 FR 22706, April 22, 2011 and two comments were received. Both commenters support the extension of this information collection. In addition to supporting the extension, both commenters suggested some revisions/enhancements to the current Standard Form 28. These suggestions will be taken into consideration.

The decrease in the total burden hours is a result of the change in the “Response per Respondent” and “Hours per Response” categories. The 1.43, responses per respondent, has been lowered to 1. to adequately reflect this category. A respondent has to respond completely not partially when submitting this form. The “Hours per Response” category has been decreased to .3 (18 minutes) from .4 (24 minutes) to reflect the benefit of the electronic capability of fillable-fileable forms. Respondents no longer have to print, scan, and then electronically submit or print and then physically mail forms through the post office, they can now submit electronically.

B. Annual Reporting Burden

Respondents: 500.

Responses Per Respondent: 1.

Total Responses: 500.

Hours Per Response: 0.3.

Total Burden Hours: 150.

Obtaining Copies of Proposals: Requesters may obtain a copy of the information collection documents from the General Services Administration, Regulatory Secretariat (MVCB), 1275 First Street, NE., Washington, DC 20417, telephone (202) 501-4755. Please cite OMB Control No. 9000-0001, Standard Form 28, Affidavit of Individual Surety, in all correspondence.

Dated: September 21, 2011.
Laura Auletta,
Acting Director, Office of Governmentwide Acquisition Policy, Office of Acquisition Policy.

[FR Doc. 2011-24906 Filed 9-27-11; 8:45 am]

BILLING CODE 6820-EP-P